DEPARTMENT OF AGRICULTURE

Agricultural Marketing Service

[Docket # AMS-FV-07-0142]

United States Standards for Grades of Beet Greens

AGENCY: Agricultural Marketing Service, USDA.

ACTION: Notice.

SUMMARY: The Agricultural Marketing Service (AMS) is soliciting comments on its proposal to revise the voluntary United States Standards for Grades of Beet Greens. AMS is proposing to remove “Unclassified” category from the standards. The proposed revisions will update the beet greens grade standards.

DATES: Effective Date: Comments must be received by September 8, 2008.

ADDRESSES: Interested persons are invited to submit written comments on the Internet at http://www.regulations.gov or to the Standardization Section, Fresh Products Branch, Fruit and Vegetable Programs, Agricultural Marketing Service, U.S. Department of Agriculture, 1400 Independence Ave., SW., Room 1661 South Building, Stop 0240, Washington, DC 20250-0240; Fax (202) 720-8871. Comments should make reference to the dates and page number of this issue of the Federal Register and will be made available for public inspection in the above office during regular business hours.

FOR FURTHER INFORMATION CONTACT: Vincent J. Fusaro, Standardization Section, Fresh Products Branch, (202) 720-2185. The United States Standards for Grades of Beet Greens are available by accessing the Fresh Products Branch Web site at: http://www.ams.usda.gov/freshinspection.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA, AMS, Fruit and Vegetable Programs.

AMS is revising the United States Standards for Grades of Beet Greens using the procedures that appear in Part 36, Title 7 of the Code of Federal Regulations (7 CFR part 36). These standards were last revised June 1, 1959.

Background

Prior to undertaking detailed work to develop a proposed revision to the standards, AMS published a notice on February 19, 2008, in the Federal Register (73 FR 9086) soliciting comments for possible revisions to the United States Standards for Grades of Beet Greens. The proposal would remove the “Unclassified” category from the standards. No comments were received regarding this change.

AMS would eliminate the unclassified category. This category is being removed from all standards when they are revised. This category is not a grade and only serves to show that no grade has been applied to the lot. It is no longer considered necessary.

AMS is seeking comments regarding how this revision will affect the marketing of beet greens. Additionally, AMS is interested in learning the costs and/or benefits to the industry by revising the United States Standards for Grades of Beet Greens.

The official grades of beet greens covered by these standards are determined by the procedures set forth in the Regulations Governing Inspection, Certification and Standards of Fresh Fruits, Vegetables and Other Products (7 CFR 51.1 to 51.62).

This notice provides for a 60-day comment period for interested parties to comment on the proposed revisions to the standards.

Authority: 7 U.S.C. 1621-1627.

Dated: July 3, 2008.
Lloyd C. Day,
Administrator, Agricultural Marketing Service.

[FR Doc. E8-15644 Filed 7-9-08; 8:45 am]

BILLING CODE 3410-02-P